SMALL BUSINESS ADMINISTRATION

[Declaration of Disaster #3625]

State of Mississippi; Amendment #2

In accordance with a notice received from the Department of Homeland Security—Federal Emergency Management Agency—effective September 20, 2004, the above numbered declaration is hereby amended to establish the incident period for this disaster as beginning September 13, 2004, and continuing through September 20, 2004.

All other information remains the same, i.e., the deadline for filing applications for physical damage is November 15, 2004 and for economic injury the deadline is June 15, 2005.

(Catalog of Federal Domestic Assistance Program Nos. 59002 and 59008)

Dated: September 23, 2004.
Herbert L. Mitchell,
Associate Administrator for Disaster Assistance.

[FR Doc. 04-22127 Filed 9-30-04; 8:45 am]

BILLING CODE 8025-01-U